DEPARTMENT OF ENERGY

Federal Energy Regulatory Commission

Combined Notice of Filings

Take notice that the Commission has received the following Natural Gas Pipeline Rate and Refund Report filings:

Filings Instituting Proceedings

Docket Numbers: RP21-1188-000.

Applicants: Texas Eastern Transmission, LP.

Description: Motion Filing: TETLP Rate Case Motion Filing RP21-1188-000 to be effective 4/1/2022.

Filed Date: 3/31/22.

Accession Number: 20220331-5096.

Comment Date: 5 p.m. ET 4/12/22.

Docket Numbers: RP22-750-000.

Applicants: Colorado Interstate Gas Company, L.L.C.

Description: § 4(d) Rate Filing: Negotiated Rate Agreement Filing (Conoco May 22) to be effective 5/1/2022.

Filed Date: 3/31/22.

Accession Number: 20220331-5074.

Comment Date: 5 p.m. ET 4/12/22.

Docket Numbers: RP22-752-000.

Applicants: Cheniere Creole Trail Pipeline, L.P.

Description: Compliance filing: CTPL 2021 Operation Transaction Report to be effective N/A.

Filed Date: 3/31/22.

Accession Number: 20220331-5079.

Comment Date: 5 p.m. ET 4/12/22.

Docket Numbers: RP22-753-000.

Applicants: Midship Pipeline Company, LLC.

Description: Compliance filing: MSPL 2021 Operation Transaction Report to be effective N/A.

Filed Date: 3/31/22.

Accession Number: 20220331-5080.

Comment Date: 5 p.m. ET 4/12/22.

Docket Numbers: RP22-754-000.

Applicants: Cheniere Corpus Christi Pipeline, LP.

Description: Compliance filing: CCPL 2021 Operation Transaction Report to be effective N/A.

Filed Date: 3/31/22.

Accession Number: 20220331-5085.

Comment Date: 5 p.m. ET 4/12/22.

Docket Numbers: RP22-755-000.

Applicants: East Tennessee Natural Gas, LLC.

Description: Compliance filing: 2020-2021 ETNG Cashout Report to be effective N/A.

Filed Date: 3/31/22.

Accession Number: 20220331-5092.

Comment Date: 5 p.m. ET 4/12/22.

Docket Numbers: RP22-757-000.

Applicants: El Paso Natural Gas Company, L.L.C.

Description: § 4(d) Rate Filing: Negotiated Rate Agreement Filing (Targa) to be effective 4/1/2022.

Filed Date: 3/31/22.

Accession Number: 20220331-5122.

Comment Date: 5 p.m. ET 4/12/22.

Docket Numbers: RP22-758-000.

Applicants: Northern Natural Gas Company.

Description: § 4(d) Rate Filing: 20220331 Negotiated Rate to be effective 4/1/2022.

Filed Date: 3/31/22.

Accession Number: 20220331-5192.

Comment Date: 5 p.m. ET 4/12/22.

Docket Numbers: RP22-759-000.

Applicants: Kinder Morgan Louisiana Pipeline LLC.

Description: § 4(d) Rate Filing: Acadiana Out of Cycle Fuel filing to be effective 5/1/2022.

Filed Date: 3/31/22.

Accession Number: 20220331-5199.

Comment Date: 5 p.m. ET 4/12/22.

Docket Numbers: RP22-760-000.

Applicants: Trailblazer Pipeline Company LLC.

Description: § 4(d) Rate Filing: TPC 2022-03-31 Negotiated Rate Agreements to be effective 4/1/2022.

Filed Date: 3/31/22.

Accession Number: 20220331-5200.

Comment Date: 5 p.m. ET 4/12/22.

Docket Numbers: RP22-761-000.

Applicants: Enable Gas Transmission, LLC.

Description: § 4(d) Rate Filing: Negotiated Rate Filing—April 1 2022 Ovintiv to be effective 4/1/2022.

Filed Date: 3/31/22.

Accession Number: 20220331-5210.

Comment Date: 5 p.m. ET 4/12/22.

Docket Numbers: RP22-762-000.

Applicants: Algonquin Gas Transmission, LLC.

Description: § 4(d) Rate Filing: Negotiated Rates—Various Releases eff 4-1-2022 to be effective 4/1/2022.

Filed Date: 3/31/22.

Accession Number: 20220331-5217.

Comment Date: 5 p.m. ET 4/12/22.

Docket Numbers: RP22-763-000.

Applicants: Columbia Gas Transmission, LLC.

Description:§ 4(d) Rate Filing: OTRA Summer 2022 to be effective 5/1/2022.

Filed Date: 3/31/22.

Accession Number: 20220331-5219.

Comment Date: 5 p.m. ET 4/12/22.

Docket Numbers: RP22-764-000.

Applicants: Northern Natural Gas Company.

Description: § 4(d) Rate Filing: 20220331 Housekeeping Filing to be effective 5/1/2022.

Filed Date: 3/31/22.

Accession Number: 20220331-5222.

Comment Date: 5 p.m. ET 4/12/22.

Docket Numbers: RP22-765-000.

Applicants: Maritimes & Northeast Pipeline, L.L.C.

Description: § 4(d) Rate Filing: Negotiated Rates—Various Releases eff 4-1-22 to be effective 4/1/2022.

Filed Date: 3/31/22.

Accession Number: 20220331-5224.

Comment Date: 5 p.m. ET 4/12/22.

Docket Numbers: RP22-766-000.

Applicants: Eastern Gas Transmission and Storage, Inc.

Description: § 4(d) Rate Filing: EGTS—March 31, 2022 Negotiated Rate Agreement to be effective 5/1/2022.

Filed Date: 3/31/22.

Accession Number: 20220331-5247.

Comment Date: 5 p.m. ET 4/12/22.

Docket Numbers: RP22-767-000.

Applicants: Rockies Express Pipeline LLC.

Description: § 4(d) Rate Filing: REX 2022-03-31 Negotiated Rate Agreements and Amendments to be effective 4/1/2022.

Filed Date: 3/31/22.

Accession Number: 20220331-5282.

Comment Date: 5 p.m. ET 4/12/22.

Docket Numbers: RP22-768-000.

Applicants: Gulf South Pipeline Company, LLC.

Description: § 4(d) Rate Filing: Neg Rate Agmt & Cap Rel (FPL 48381, FPL 48381 to Spire 54711) to be effective4/1/2022.

Filed Date: 3/31/22.

Accession Number: 20220331-5287.

Comment Date: 5 p.m. ET 4/12/22.

Docket Numbers: RP22-769-000.

Applicants: Gulf South Pipeline Company, LLC.

Description: § 4(d) Rate Filing: Cap Rel Neg Rate Agmts (FPL 41618, 41619 releases eff 4-1-2022) to be effective 4/1/2022.

Filed Date: 3/31/22.

Accession Number: 20220331-5291.

Comment Date: 5 p.m. ET 4/12/22.

Docket Numbers: RP22-770-000.

Applicants: Gulf South Pipeline Company, LLC.

Description: § 4(d) Rate Filing: Cap Rel Neg Rate Agmt (Pensacola 43993 to BP 55005) to be effective 4/1/2022.

Filed Date: 3/31/22.

Accession Number: 20220331-5295.

Comment Date: 5 p.m. ET 4/12/22.

Docket Numbers: RP22-771-000.

Applicants: Gulf South Pipeline Company, LLC.

Description: § 4(d) Rate Filing: Cap Rel Neg Rate Agmt (Methanex 42805 to Tenaska 55076) to be effective 4/1/2022.

Filed Date: 3/31/22.

Accession Number: 20220331-5299.

Comment Date: 5 p.m. ET 4/12/22.

Docket Numbers: RP22-772-000.

Applicants: El Paso Natural Gas Company, L.L.C.

Description: § 4(d) Rate Filing: Negotiated Rate Agreement Update (CIMA) to be effective 4/1/2022.

Filed Date: 3/31/22.

Accession Number: 20220331-5300.

Comment Date: 5 p.m. ET 4/12/22.

Docket Numbers: RP22-773-000.

Applicants: Bison Pipeline LLC.

Description: Compliance filing: Company Use Gas Annual Report 2022 to be effective N/A.

Filed Date: 3/31/22.

Accession Number: 20220331-5301.

Comment Date: 5 p.m. ET 4/12/22.

Docket Numbers: RP22-774-000.

Applicants: Gulf South Pipeline Company, LLC.

Description: § 4(d) Rate Filing: Cap Rel Neg Rate Agmts (JERA 46434, 46435 to EDF 55083, 55084) to be effective 4/1/2022.

Filed Date: 3/31/22.

Accession Number: 20220331-5302.

Comment Date: 5 p.m. ET 4/12/22.

Docket Numbers: RP22-775-000.

Applicants: Northern Border Pipeline Company.

Description: § 4(d) Rate Filing: Compressor Usage Surcharge 2022 to be effective 5/1/2022.

Filed Date: 3/31/22.

Accession Number: 20220331-5304.

Comment Date: 5 p.m. ET 4/12/22.

Docket Numbers: RP22-776-000.

Applicants: Great Lakes Gas Transmission Limited Partnership.

Description: § 4(d) Rate Filing: Neg. Rate Agreements—DTE—FT22073, Freepoint—FT22182, Citadel—FT22183 to be effective 4/1/2022.

Filed Date: 3/31/22.

Accession Number: 20220331-5307.

Comment Date: 5 p.m. ET 4/12/22.

Docket Numbers: RP22-777-000.

Applicants: El Paso Natural Gas Company, L.L.C.

Description: § 4(d) Rate Filing: Negotiated Rate Agreement Update (SoCal April) to be effective 4/1/2022.

Filed Date: 3/31/22.

Accession Number: 20220331-5309.

Comment Date: 5 p.m. ET 4/12/22.

Docket Numbers: RP22-778-000.

Applicants: Wyoming Interstate Company, L.L.C.

Description: § 4(d) Rate Filing: Negotiated Rate Agreements Filing (Direct Energy) to be effective 4/1/2022.

Filed Date: 3/31/22.

Accession Number: 20220331-5315.

Comment Date: 5 p.m. ET 4/12/22.

Docket Numbers: RP22-779-000.

Applicants: Gulf South Pipeline Company, LLC.

Description: § 4(d) Rate Filing: Cap Rel Neg Rate Agmts (Osaka 46429 to Texla 55151) to be effective 4/1/2022.

Filed Date: 3/31/22.

Accession Number: 20220331-5343.

Comment Date: 5 p.m. ET 4/12/22.

Docket Numbers: RP22-780-000.

Applicants: NEXUS Gas Transmission, LLC.

Description: § 4(d) Rate Filing: Negotiated Rates—Various Releases eff 4-1-22 to be effective 4/1/2022.

Filed Date: 3/31/22.

Accession Number: 20220331-5344.

Comment Date: 5 p.m. ET 4/12/22.

Docket Numbers: RP22-781-000.

Applicants: Texas Eastern Transmission, LP.

Description: § 4(d) Rate Filing: Negotiated Rates—Various Releases eff 4-1-22 to be effective 4/1/2022.

Filed Date: 3/31/22.

Accession Number: 20220331-5355.

Comment Date: 5 p.m. ET 4/12/22.

Docket Numbers: RP22-782-000.

Applicants: LA Storage, LLC.

Description: § 4(d) Rate Filing: Filing of Negotiated Rate, Conforming IW Agreements 4.1.22 to be effective 4/1/2022.

Filed Date: 3/31/22.

Accession Number: 20220331-5381.

Comment Date: 5 p.m. ET 4/12/22.

Docket Numbers: RP22-783-000.

Applicants: Texas Gas Transmission, LLC.

Description: § 4(d) Rate Filing: Cap Rel Neg Rate Agmt (Jay-Bee 34447 to MacQuarrie 39624) to be effective 4/1/2022.

Filed Date: 4/1/22.

Accession Number: 20220401-5007.

Comment Date: 5 p.m. ET 4/13/22.

Docket Numbers: RP22-784-000.

Applicants: Equitrans, L.P.

Description: § 4(d) Rate Filing: Negotiated Rate Agreement—3/31/2022 to be effective 3/31/2022.

Filed Date: 4/1/22.

Accession Number: 20220401-5008.

Comment Date: 5 p.m. ET 4/13/22.

Docket Numbers: RP22-785-000.

Applicants: Dominion Energy Overthrust Pipeline, LLC.

Description: § 4(d) Rate Filing: Company Name Change to be effective 4/1/2022.

Filed Date: 4/1/22.

Accession Number: 20220401-5011.

Comment Date: 5 p.m. ET 4/13/22.

Docket Numbers: RP22-788-000.

Applicants: Columbia Gulf Transmission, LLC.

Description: § 4(d) Rate Filing: Negotiated Rate Agreement—Roanoke 262643 to be effective 4/1/2022.

Filed Date: 4/1/22.

Accession Number: 20220401-5016.

Comment Date: 5 p.m. ET 4/13/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1188-003.

Applicants: Texas Eastern Transmission, LP.

Description: Compliance filing: TETLP Rate Case Compliance Filing RP21-1188-000 to be effective 4/1/2022.

Filed Date: 3/31/22.

Accession Number: 20220331-5102.

Comment Date: 5 p.m. ET 4/12/22.

Docket Numbers: RP22-417-003.

Applicants: Tennessee Gas Pipeline Company, L.L.C.

Description: Tariff Amendment: TGP PCG Pooling Amendment No.3 to be effective 5/1/2022.

Filed Date: 3/31/22.

Accession Number: 20220331-5337.

Comment Date: 5 p.m. ET 4/12/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2022.
Debbie-Anne A. Reese,
Deputy Secretary.

[FR Doc. 2022-07433 Filed 4-6-22; 8:45 am]

BILLING CODE 6717-01-P